DEPARTMENT OF EDUCATION

Office of Elementary and Secondary Education; Notice Extending the Deadline Date for Transmittal of Part II Applications and the Deadline Date for Intergovernmental Review for the Indian Education Formula Grants to Local Educational Agencies (LEAs) Program for Fiscal Year (FY) 2008

Catalog of Federal Domestic Assistance (CFDA) Number: 84.060A.

SUMMARY: On December 19, 2007, we published in the Federal Register (72 FR 71880) a notice inviting applications for Part I and Part II of the Formula Grant Electronic Application System for Indian Education (EASIE). The December 19, 2007 notice established an April 4, 2008 deadline date for eligible applicants to apply for funding under Part II of the Formula Grants to LEAs program, and provided that applications or data submissions under Part II would be accepted only from those eligible applicants who met the Part I deadline of January 31, 2008. We are extending the Part II application deadline date to April 23, 2008, for those eligible applicants who met the Part I deadline of January 31, 2008. The change in the deadline date for Part II applications is due to the unavailability of the application system for Part II during the dates published in the Federal Register. As a result of this extension of the deadline date for Part II applications, we also are extending the intergovernmental review period required under Executive Order 12372 to July 23, 2008. Applicants must refer to the Application Notice for all other requirements concerning this program.

DATES: Part II of Formula Grant EASIE Applications Available: March 21, 2008.

Deadline for Transmittal of Part II Applications: April 23, 2008.

Deadline for Intergovernmental Review: July 23, 2008.

FOR FURTHER INFORMATION CONTACT: Contact the EDFacts Partner Support Center, telephone: 877-457-3336 (877-HLP-EDEN) or by e-mail at: eden_OIE@ed.gov.

If you use a telecommunications device for the deaf (TDD), call the EDFacts Partner Support Center, toll free, at 1-888-403-3336 (888-403-EDEN).

Individuals with disabilities can obtain this document and a copy of the application package in an alternative format (e.g., Braille, large print, audiotape, or computer diskette) by contacting the EDFacts Partner Support Center.

SUPPLEMENTARY INFORMATION: Applications for Part II of the Formula Grants to LEAs program must be submitted electronically through the Formula Grant EASIE unless you do not have Internet access and have made prior arrangements with the Department. For approval to submit a paper application, you must contact the EDFacts Partner Support Center (see the contact information listed elsewhere in this notice under FOR FURTHER INFORMATION CONTACT) prior to the deadline for transmittal of Part II applications. If you are approved to submit a paper application, you must meet the transmittal deadlines included in this notice.

Part II, Program and Budget Information, provides your award amount based on the Indian student count total submitted under Part I. Part II also enables you to enter student performance data, identify your project's services and activities, and build a realistic program budget based on a known grant amount. Based on student assessment data, you will select your program objectives and services from a variety of menu options that were designed with grantee input.

Electronic Access to This Document

You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Program Authority: 20 U.S.C. 7421 et seq.

Dated: March 20, 2008.
Kerri L. Briggs,
Assistant Secretary for Elementary and Secondary Education.

[FR Doc. E8-6064 Filed 3-24-08; 8:45 am]

BILLING CODE 4000-01-P